DEPARTMENT OF ENERGY

Federal Energy Regulatory Commission

[Docket Nos. CP04-386-000 and CP04-395-000]

Golden Pass and Vista del Sol LNG Terminals, L.P.; Notice of Technical Conference

October 27, 2004.

On Wednesday, November 17, 2004, at 8:30 a.m. (CST), staff of the Office of Energy Projects will convene a cryogenic design and technical conference regarding the proposed Golden Pass and Vista del Sol LNG import terminals. The cryogenic conference will be held in the Sheraton North Houston at George Bush Intercontinental Airport. The hotel is located at 15700 John F. Kennedy Boulevard, Houston, Texas 77032. For hotel details call (281) 442-5100.

In view of the nature of critical energy infrastructure information and security issues to be explored, the cryogenic conference will not be open to the public. Attendance at this conference will be limited to existing parties to the proceeding (anyone who has specifically requested to intervene as a party) and to representatives of interested federal, state, and local agencies. Any person planning to attend the November 17th cryogenic conference must register by close of business on Monday, November 15, 2004. Registrations may be submitted either online at http://www.ferc.gov/whats-new/registration/cryo-conf-form.asp or by faxing a copy of the form (found at the referenced online link) to (202) 208-0353. All attendees must sign a non-disclosure statement prior to entering the conference. Upon arrival at the hotel, check the reader board in the hotel lobby for venue. For additional information regarding the cryogenic conference, please contact Kareem Monib at (202) 502-6265.

Magalie R. Salas,
Secretary.

[FR Doc. E4-2985 Filed 11-2-04; 8:45 am]

BILLING CODE 6717-01-P